ENVIRONMENTAL PROTECTION AGENCY

40 CFR Part 52

[IN141-1a; FRL-7213-5]

Approval and Promulgation of Implementation Plans; Indiana

AGENCY: Environmental Protection Agency (EPA).

ACTION: Direct final rule.

SUMMARY: The EPA is approving a State Implementation Plan (SIP) revision submitted by the Indiana Department of Environmental Management (IDEM) on July 18, 2000, with additional material submitted on January 11, 2002 and March 13, 2002. The revised SIP pertains to vapor tightness standards for the loading of gasoline cargo tanks at bulk gasoline terminals and pipeline breakout stations in Indiana. The purpose of this action is to approve amendments to Indiana's gasoline transport testing requirements which will tighten current state rules. These amendments are based on EPA's National Emissions Standard for Hazardous Pollutants (NESHAP) for Bulk Gasoline Terminals and Pipeline Breakout Stations, which includes new vapor tightness standards for gasoline cargo tanks, in addition to a pressure standard for the internal valve of the tanks.

DATES: This rule is effective on July 30, 2002, unless EPA receives adverse written comments by July 1, 2002. If adverse comment is received, EPA will publish a timely withdrawal of the rule in the Federal Register and inform the public that the rule will not take effect.

ADDRESSES: Written comments should be sent to: Patricia Morris, Acting Chief, Regulation Development Section, Air Programs Branch (AR-18J), U.S. Environmental Protection Agency, 77 West Jackson Boulevard, Chicago, Illinois 60604.

Copies of this SIP revision request are available for public inspection during normal business hours at the following address: U.S. Environmental Protection Agency, Region 5, Air and Radiation Division, 77 West Jackson Boulevard, Chicago, Illinois 60604. (It is recommended that you telephone Francisco J. Acevedo at (312) 886-6061 before visiting the Region 5 Office.)

FOR FURTHER INFORMATION CONTACT: Francisco J. Acevedo, Regulation Development Section, Air Programs Branch (AR-18J), U.S. Environmental Protection Agency, Region 5, 77 West Jackson Boulevard, Chicago, Illinois 60604,Telephone: (312)886-6061, E-Mail: acevedo.francisco@epa.gov.

SUPPLEMENTARY INFORMATION: Throughout this document, the term “me” refers to the reader of this rulemaking and the terms “we,” “us,” or “our” refer to the EPA.

Table of Contents

I. Background

A. What is a SIP?

B. What is the federal approval process for a SIP?

C. What does federal approval of a state rule mean to me?

D. What is Section 112 of the Clean Air Act?

E. What is the purpose of Indiana's gasoline transport testing requirements?

F. What public review opportunities did Indiana provide for this rule?

II. Evaluation of the Rule

A. What are the changes to the State's gasoline transport testing requirements?

B. Is this rule approvable?

III. EPA Rulemaking Action

IV. Administrative Requirements

I. Background

A. What Is a SIP?

Section 110 of the Clean Air Act (Act or CAA) requires states to develop air pollution control regulations and strategies to ensure that state air quality meets the national ambient air quality standards established by the EPA. Each state must submit the regulations and emission control strategies to the EPA for approval and promulgation into the federally enforceable SIP.

Each federally approved SIP protects air quality primarily by addressing air pollution at its points of origin. The SIPs can be and generally are extensive, containing many state regulations or other enforceable documents and supporting information, such as emission inventories, monitoring documentation, and modeling attainment demonstrations.

B. What Is the Federal Approval Process for a SIP?

In order for state regulations to be incorporated into the federally enforceable SIP, states must formally adopt the regulations and emission control strategies consistent with state and federal requirements. This process generally includes public notice, public hearings, public comment periods, and formal adoption by state-authorized rulemaking bodies.

Once a state has adopted a rule, regulation, or emissions control strategy it submits it to us for inclusion into the SIP. We must provide public notice and seek additional public comment regarding the proposed federal action on the state submission. If we receive adverse comments we address them prior to any final federal action (we generally address them in a final rulemaking action).

The EPA incorporates into the federally approved SIP all state regulations and supporting information it has approved under section 110 of the Act. Records of such SIP actions are maintained in 40 CFR, part 52, titled “Approval and Promulgation of Implementation Plans.” The actual state regulations the EPA has approved are not reproduced in their entirety in the CFR, but are “incorporated by reference,” which means that EPA has approved a given state regulation (or rule) with a specific effective date.

C. What Does Federal Approval of a State Rule Mean to Me?

Enforcement of a state rule before and after it is incorporated into a federally approved SIP is primarily a state responsibility. After the rule is federally approved as part of the SIP, however, it becomes enforceable by the EPA, which can then take enforcement actions against violators. The CAA also offers citizens legal recourse to address SIP violations, as provided in section 304 of the Act.

D. What Is Section 112 of the Clean Air Act?

Section 112 of the Clean Air Act Amendments of 1990 requires that the EPA develop regulations for the control of hazardous air pollutant (HAP) emissions from major sources. On July 16, 1992, EPA published a list of source categories that emit one or more of these air toxics. For listed categories of major sources (those that emit 10 tons/year or more of a listed pollutant or 25 tons or more of a combination of pollutants), the Act requires EPA to develop standards that will reflect the application of maximum achievable control technology (MACT). On December 14, 1994 (59 FR 64303), EPA issued a final NESHAP for Bulk Gasoline Terminals and Pipeline Breakout Stations, 40 CFR part 63, Subpart R, which includes new vapor tightness standards for gasoline transports and a pressure standard for the tank internal vapor valve. EPA later published amendments changing compliance dates and making other corrections and clarifications (60 FR 7627, February 8, 1995; 60 FR 32912, June 26, 1995; 61 FR 7718, February 29, 1996; 62 FR 9087, February 28 1997). The CAA authorizes states to implement and enforce the NESHAP upon EPA approval.

E. What Is the Purpose of Indiana's Gasoline Transport Testing Requirements?

Indiana's gasoline transport requirements contained in 326 IAC Article 8 provide for vapor tightness standards for the loading of gasoline cargo tanks at bulk gasoline terminals and pipeline breakout stations in Indiana.

Current State regulations at 326 IAC 8-4-7 (Gasoline transports) and 326 IAC 8-4-9 (Leaks from transports and vapor collection systems; records) require that gasoline transports loading at bulk gasoline terminals and pipeline breakout stations be vapor tight and tested annually for vapor tightness, following procedures consistent with Appendix A of “Control of Organic Compound Leaks from Gasoline Tank Trucks and Vapor Collection Systems,” EPA-450/2-78-051. The regulations apply to transport loading at terminals and breakout stations in Clark, Elkhart, Floyd, Hendricks, Lake, Marion, Porter, St. Joseph, Boone, Dearborn, Hamilton, Hancock, Harrison, Johnson, Morgan, and Shelby counties, and to all new sources.

Gasoline emissions are a significant source of air pollution within the State of Indiana. The amendments to 326 IAC Article 8 will tighten vapor standards for the loading of gasoline transports and will reduce HAP emissions, as well as volatile organic compound (VOC) emissions that contribute to the formation of ozone.

F. What Public Review Opportunities Did Indiana Provide for This Rule?

Indiana held public hearings on this rule on December 2, 1998 and May 5, 1999, in Indianapolis, Indiana. The Indiana Air Pollution Control Board adopted final rules on May 5, 1999. The rule revisions became effective November 5, 1999, and were formally submitted to EPA on July 18, 2000, as a revision to the Indiana SIP for ozone. In addition, Indiana submitted two addendums on January 11, 2002 and March 13, 2002 correcting typographical, clerical, or spelling errors found in the final rules submitted on July 18, 2000.

II. Evaluation of the Rule

A. What Are the Changes to the State's Gasoline Transport Testing Requirements?

Indiana's amendments to 326 IAC 8-4-7 (Gasoline transports) and 326 IAC 8-4-9 (Leaks from transports and vapor collection systems; records) expand the NESHAP's new standards to apply to gasoline transports loading at all sources in the previously named counties and to new sources.

The NESHAP for Bulk Gasoline Terminals and Pipeline Breakout Stations (40 CFR part 63, subpart R) establishes an internal vapor valve pressure standard and more stringent limits for maximum allowable pressure or vacuum change in “Determination of Vapor Tightness of Gasoline Delivery Tank Using Pressure-Vacuum Test,” 40 CFR part 60, appendix A, Method 27, commonly referred to as the “modified Method 27 test.” The Indiana rule amends the testing requirement in 326 IAC 8-4-9 (Leaks from transports and vapor collection systems; records) for gasoline transports in order to be consistent with the standards in the modified Method 27 test.

The Indiana rule also expands the definition of “leak” in 326 IAC 8-4-7(a)(3), consistent with that found in the NESHAP at 40 CFR 63.425(f), and revises language in 326 IAC 8-4-7 to allow the use of instruments, in addition to visible detection, to detect leaks in gasoline transports. The rule adds the same definition of “leak” to 326 IAC 8-4-9(d) and changes the test method for vapor balance systems to be consistent with current test methods found at 40 CFR part 60, appendix A, Method 21. In addition, 326 IAC 20-10-1 (Applicability; incorporation by reference of federal standards) incorporates by reference the portions of the NESHAP for Bulk Gasoline Terminals and Pipelines Breakout Stations, 40 CFR part 63, subpart R, pertaining to the new standards.

The rest of the changes to the rule are administrative in nature and are intended to enhance the clarity of the rule.

B. Is This Rule Approvable?

Our review of the material submitted indicates that the changes made to the Indiana gasoline transports rule address and exceed the federal program requirements. These rule revisions are, therefore, approvable.

III. EPA Rulemaking Action

We are approving, through direct final rulemaking, revisions to Indiana's gasoline transport testing requirements. We are publishing this action without prior proposal because we view this as a noncontroversial revision and anticipate no adverse comments. However, in a separate document in this Federal Register publication, we are proposing to approve the SIP revision should adverse written comments be filed. This action will be effective without further notice unless we receive relevant adverse written comment by July 1, 2002. Should we receive such comments, we will publish a final rule informing the public that this action will not take effect. Any parties interested in commenting on this action should do so at this time. If no such comments are received, this action will be effective on July 30, 2002.

IV. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by July 30, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Authority: 42 U.S.C. 7401 et seq.

Dated: May 9, 2002.
Bharat Mathur,
Acting Regional Administrator, Region 5.

Part 52, chapter I, title 40 of the Code of Federal Regulations is amended as follows:

PART 52—[AMENDED]

1. The authority citation for part 52 continues to read as follows:

Authority: 42.U.S.C. 7401-7671q.

Subpart P—Indiana

2. Section 52.770, is amended by adding paragraph (c)(150) to read as follows:

§ 52.770 Identification of plan.

* * * * *

(c) * * *

(150) On July 18, 2000 the Indiana Department of Environmental Management submitted a State Implementation Plan (SIP) revision amending certain provisions of Indiana's gasoline transport testing requirements with additional material submitted on January 11, 2002 and March 13, 2002. The Air Pollution Control Board amended 326 IAC 8-4-7 and 326 IAC 8-4-9 and added 326 IAC 20-10.

(i) Incorporation by reference.

(A) 326 Indiana Administrative Code 8-4-7; 8-4-9; and 20-10-01 adopted May 5, 1999, effective November 5, 1999.

(ii) Additional materials.

(A) July 18, 2000 letter and enclosures from the Indiana Department of Environmental Management (IDEM) Commissioner to the Regional Administrator of the United States Environmental Protection Agency (EPA) submitting Indiana's revision to the ozone SIP.

(B) January 11, 2002 letter and enclosures from IDEM to EPA submitted as an addendum to the July 18, 2000 revision to the ozone SIP.

(C) March 13, 2002 letter and enclosures from IDEM to EPA submitted as an addendum to the July 18, 2000 revision to the ozone SIP.

[FR Doc. 02-13516 Filed 5-30-02; 8:45 am]

BILLING CODE 6560-50-P